DEPARTMENT OF THE INTERIOR

National Park Service

[NPS-WASO-NAGPRA-NPS0038461; PPWOCRADN0-PCU00RP14.R50000]

Notice of Inventory Completion: Wesleyan University, Middletown, CT

AGENCY: National Park Service, Interior.

ACTION: Notice.

SUMMARY: In accordance with the Native American Graves Protection and Repatriation Act (NAGPRA), Wesleyan University has completed an inventory of human remains and associated funerary objects and has determined that there is a cultural affiliation between the human remains and associated funerary objects and Indian Tribes or Native Hawaiian organizations in this notice.

DATES: Repatriation of the human remains and associated funerary objects in this notice may occur on or after September 11, 2024.

ADDRESSES: Wendi Field Murray, Wesleyan University, 265 Church Street, Exley Science Building (Archaeology & Anthropology Collection), Middletown, CT 06459, telephone (860) 685-2085, email wmurray01@wesleyan.edu.

SUPPLEMENTARY INFORMATION: This notice is published as part of the National Park Service's administrative responsibilities under NAGPRA. The determinations in this notice are the sole responsibility of Wesleyan University and additional information on the determinations in this notice, including the results of consultation, can be found in its inventory or related records. The National Park Service is not responsible for the determinations in this notice.

Abstract of Information Available

Portland, Middlesex County, CT

Human remains representing at least nine individuals have been identified. The one associated funerary object is a string of blue and black beads. Based on records, their storage organization when found, and tribal consultation, all are presumed to originate in the Middlesex County/Portland/Indian Hill area.

According to Wesleyan's catalog records, some of these individuals' remains were likely taken from the property of Frank Gladwin on June 14th, 1899 while digging a trench for a water pipe in the dooryard of his residence, and would have come into Wesleyan's collection with a large donation from the estate of local collector Charles H. Neff in the late 1920s or early 1930s. Charles Neff was a prolific local collector who did his collecting from the mid-19th century through the early 20th century. Neff's looting of Native American graves in the area is historically documented in archives and his own personal journal, and Indian Hill in Portland was known to contain Native American (Wangunk) burials that were frequently disturbed. Indian Hill is historically documented to have been a burial place for the Wangunk people, who lived in the area until ca. 1765.

Attribution of the remains to Neff's collecting at Indian Hill is based upon the fact that (1) Wesleyan received a large (but poorly inventoried) donation of local archaeological materials from Neff in the 20th century, (2) his collecting often included human remains, and (3) a description of the Gladwin property discovery in Neff's journal listed the number of individuals and skeletal elements present that correspond to some of the remains from CT that are currently held by Wesleyan.

The beads likely correspond to the string of beads Neff describes in his collecting journal (1927) in which he describes the remains of a Native American woman that had been exposed after heavy rains on the property of George Conklin. A string of beads was reportedly found wrapped several times around her arm, some of which he kept for his collection.

Griffin Site (6NL31), Old Lyme, CT

Human remains representing, at least, one individual have been identified. The 58 lots of associated funerary objects comprise archaeological debris, stone bifaces (complete and broken), Mansion Inn type projectile points (complete and broken), unidentified projectile points (complete and broken), stemmed projectile points, notched projectile points, projectile point fragments, oblong or rod-shaped groundstone tools, smooth/flat groundstone implements (complete and broken), miscellaneous groundstone fragments, stone flakes, unidentified stone cobbles and fragments, quartz cobble fragments, chert cobble fragments, sandstone fragments, sandstone tools, stone axes (complete and broken), stone adzes (complete and broken), stone pestles (complete and broken), stone pestle fragments, grooved stone tools (complete and broken), hammerstones (complete and broken), limonite raw material, hematite raw material, stone scrapers, stone knife/blades, unspecified chipped stone tools (complete and broken), stone drills (complete and broken), stone drill fragments, burned nuts, seeds, and botanicals, burned animal bone fragments, fire-cracked rock, charcoal/ash, one teardrop-shaped rubbing stone, one black, shiny stone object, one chunk of burned stone, one complete steatite vessel, one broken steatite vessel, one pumice-like stone tool, one drilled groundstone tool, one micaceous stone fragment, one pointed groundstone tool, and one micaceous groundstone tool.

The human remains and funerary objects were excavated from the Griffin Site in Old Lyme, CT by a Wesleyan graduate student in 1979. Interpreted as a Terminal Archaic (3500 B.P) cremation site (Susquehanna Tradition), it was accidentally discovered during construction work on the property owner's home in 1975 which prompted the salvage excavation. The property owner donated the collection to Wesleyan in 1980, after which the objects were cataloged, refit, photographed, and analyzed for the completion of a master's thesis. Many objects show evidence of spalling, breakage, and degradation by extreme heat or fire. Features were interpreted as receptacles for cremated remains and objects. Fragments of human remains (human metatarsal and phalanx; and possibly two human teeth) were identified in “Feature F” in the site report. All features had bone fragments incorporated into the ash and charcoal, though the severity of the heat exposure made most of them unidentifiable.

Niantic, CT (New London County)

Human remains representing, at least, one individual have been identified. The remains were taken from an unknown location in Niantic, CT by an unknown collector some time prior to 1972. They were donated to Wesleyan in 1972 by Dr. Leonard M. Lasser of Windsor, CT. No associated funerary objects are present.

Clinton, CT

Human remains representing, at least, one individual have been identified. The four associated funerary objects are quartz stone tools. The dates of their collection, acquisition, or provenance are unknown. Some of the remains are labeled “Clinton” while others are labeled “Sebonac” and “BUR II.” All appear to be from the same male individual. “Sebonac” likely refers to the Sebonac focus of the Late Woodland period (ca. AD 900-1500), an archaeological cultural designation attributed to parts of Long Island and southern Connecticut.

The presence of potentially hazardous substances (i.e., pesticide residues) on all of the above-mentioned remains is unknown. In 2021, Wesleyan University discovered the presence of pesticide residue (arsenic) on one organic object from Samoa that was transferred from the Smithsonian in the 19th century, as well as several taxidermy specimens. While pesticides were not typically applied to human skeletal remains or stone objects, they were managed together with organic objects in a large ethnographic teaching collection, making cross-contamination a possibility.

There is one documented instance of pest fumigation relating to the collections that dates to 1972-1973. This was to treat a silverfish infestation in underground storage rooms that held the museum's objects after it closed. The proposal was for the application of dichlorodiphenyltrichloroethane (DDT) to the floors, the placement of open containers of paradichlorobenzene (PDB) around the room, and the placement of a mildew-retarding insecticide inside the wraps of museum specimens. The specific contents of the room in which the chemicals were applied, and to what extent they were shielded from them, is unknown.

Cultural Affiliation

Based on the information available and the results of consultation, cultural affiliation is reasonably identified by the geographical location of the human remains and associated funerary objects described in this notice.

Determinations

Wesleyan University has determined that:

• The human remains described in this notice represent the physical remains of 12 individuals of Native American ancestry.

• The 63 objects described in this notice are reasonably believed to have been placed intentionally with or near individual human remains at the time of death or later as part of the death rite or ceremony.

• There is a connection between the human remains and associated funerary objects described in this notice and the Mashantucket Pequot Indian Tribe and the Mohegan Tribe of Indians of Connecticut.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 11, 2024. If competing requests for repatriation are received, Wesleyan University must determine the most appropriate requestor prior to repatriation. Requests for joint repatriation of the human remains and associated funerary objects are considered a single request and not competing requests. Wesleyan University is responsible for sending a copy of this notice to the Indian Tribes and Native Hawaiian organizations identified in this notice.

Authority: Native American Graves Protection and Repatriation Act, 25 U.S.C. 3003, and the implementing regulations, 43 CFR 10.10.

Dated: August 1, 2024.
Melanie O'Brien,
Manager, National NAGPRA Program.

[FR Doc. 2024-17874 Filed 8-9-24; 8:45 am]

BILLING CODE 4312-52-P